DEPARTMENT OF TRANSPORTATION

Federal Aviation Administration

Public Notice of Final Action To Release Surplus Airport Property at Kearney Municipal Airport, Kearney, Nebraska

AGENCY: Federal Aviation Administration (FAA), DOT.

ACTION: Notice of final action to release airport property.

SUMMARY: In accordance with section 125 of The Wendell H. Ford Aviation Investment and Reform Act for the 21st Century(AIR-21) the Federal Aviation Administration (FAA) provides notice that the FAA is approving a surplus property land release of Federal obligations for a 5.25 acre parcel at the Kearney Muncipal Airport, Kearney, Nebraska.

FOR FURTHER INFORMATION CONTACT: Amy J. Walter, Airports Land Specialist, Federal Aviation Administration, Central Region Airports Division, ACE-620, 901 Locust, Kansas City, MO 64106, (816)329-2603.

SUPPLEMENTARY INFORMATION: The Sponsor self reported the sale of a parcel of surplus property airport land prior to receiving required authorization and release by the Federal Aviation Administration (FAA). FAA authorization is a requirement found in the Federal surplus property transfer deeds, 14 CFR part 155, the Federal obligations found in the grant assurances and the guidelines outlined in FAAO 5190.6 Airport Compliance Manual. The 5.25 acre parcel was sold to the previous tenant who had improved the parcel with a building and fuel storage. Upon FAA request, the airport has submitted acceptable corrective actions that include the required documentation of payment of Fair Market Value in the amount of $183,500.00. The FAA has confirmed that the disposition of proceeds from the sale of the airport property are in accordance with 49 U.S.C. 47107(c)(2)(B) and FAA's Policy and Procedures Concerning the Use of Airport Revenue, published in the Federal Register on February 16, 1999 (64 FR 7696). In addition, the relevant airport records, to include the ALP and the Exhibit A, have been updated to reflect the release of this property. The FAA has formalized this release with the sponsor in accordance with the applicable authorities. As a result, the FAA considers this matter closed.

Issued in Kansas City, Missouri, on December 11, 2023.
James A. Johnson,
Director, Airports Division.

[FR Doc. 2023-27541 Filed 12-14-23; 8:45 am]

BILLING CODE 4910-13-P